DEPARTMENT OF ENERGY

Federal Energy Regulatory Commission

Combined Notice of Filings #1

Take notice that the Commission received the following exempt wholesale generator filings:

Docket Numbers: EG22-86-000.

Applicants: Brazoria County Solar Project LLC.

Description: Self-Certification of EG or FC of Brazoria County Solar Project LLC.

Filed Date: 4/6/22.

Accession Number: 20220406-5220.

Comment Date: 5 p.m. ET 4/27/22.

Docket Numbers: EG22-87-000.

Applicants: Castle Gap Wind Power, LLC.

Description: Notice of Self-Certification of Exempt Wholesale Generator Status of Castle Gap Wind Power, LLC.

Filed Date: 4/6/22.

Accession Number: 20220406-5221.

Comment Date: 5 p.m. ET 4/27/22.

Docket Numbers: EG22-88-000.

Applicants: Lantana Wind Power, LLC.

Description: Notice of Self-Certification of Exempt Wholesale Generator Status of Lantana Wind Power, LLC.

Filed Date: 4/6/22.

Accession Number: 20220406-5222.

Comment Date: 5 p.m. ET 4/27/22.

Docket Numbers: EG22-89-000.

Applicants: Bluebonnet Wind Power, LLC.

Description: Notice of Self-Certification of Exempt Wholesale Generator Status of Bluebonnet Wind Power, LLC.

Filed Date: 4/6/22.

Accession Number: 20220406-5223.

Comment Date: 5 p.m. ET 4/27/22.

Take notice that the Commission received the following Complaints and Compliance filings in EL Dockets:

Docket Numbers: EL22-49-000.

Applicants: Allegheny Electric Cooperative, Inc.

Description: Application for Partial Waiver of Certain PURPA Obligations of Allegheny Electric Cooperative, Inc. and its Cooperative Members.

Filed Date: 4/4/22.

Accession Number: 20220404-5326.

Comment Date: 5 p.m. ET 4/25/22.

Take notice that the Commission received the following electric rate filings:

Docket Numbers: ER10-2374-015.

Applicants: Puget Sound Energy, Inc.

Description: Notice of Change in Status of Puget Sound Energy Inc.

Filed Date: 4/4/22.

Accession Number: 20220404-5330.

Comment Date: 5 p.m. ET 4/25/22.

Docket Numbers: ER15-734-002; ER16-2290-003.

Applicants: Spartan Renewable Energy, Inc., Wolverine Power Supply Cooperative, Inc.

Description: Notice of Non-Material Change in Status of Wolverine Power Supply Cooperative, Inc., et al.

Filed Date: 4/6/22.

Accession Number: 20220406-5251.

Comment Date: 5 p.m. ET 4/27/22.

Docket Numbers: ER17-215-000; EL14-12-002.

Applicants: Midcontinent Independent System Operator, Inc., Great River Energy, South Mississippi Electric Power Association, Association of Businesses Advocating Tariff Equity, et al. v. Midcontinent Independent System Operator, Inc., et al.

Description: Midcontinent Independent System Operator, Inc. submits tariff filing per 35.19a(b): Compliance Refund Report to be effective N/A.

Filed Date: 4/1/22.

Accession Number: 20220401-5611.

Comment Date: 5 p.m. ET 4/22/22.

Docket Numbers: ER18-397-002; ER18-398-002.

Applicants: SunE Beacon Site 5 LLC, SunE Beacon Site 2 LLC.

Description: Notice of Non-Material Change in Status of SunE Beacon Site 2 LLC, et al.

Filed Date: 4/5/22.

Accession Number: 20220405-5205.

Comment Date: 5 p.m. ET 4/26/22.

Docket Numbers: ER20-686-007.

Applicants: Tri-State Generation and Transmission Association, Inc.

Description: Compliance filing: Amendment to Compliance Filing—OATT Settlement to be effective3/26/2020.

Filed Date: 4/7/22.

Accession Number: 20220407-5020.

Comment Date: 5 p.m. ET 4/28/22.

Docket Numbers: ER21-330-003.

Applicants: Specialty Products US, LLC.

Description: Notice of Change in Status of Specialty Products US, LLC.

Filed Date: 4/5/22.

Accession Number: 20220405-5204.

Comment Date: 5 p.m. ET 4/26/22.

Docket Numbers: ER22-1008-001.

Applicants: AEP Texas Inc.

Description: Tariff Amendment: AEPTX-ETT (Salvare) FDA Request to Defer Action to be effective 12/31/9998.

Filed Date: 4/7/22.

Accession Number: 20220407-5140.

Comment Date: 5 p.m. ET 4/28/22.

Docket Numbers: ER22-1591-000.

Applicants: Starion Energy NY, Inc.

Description: Notice of Cancellation of Market Based Rate Tariff of Starion Energy NY, Inc.

Filed Date: 4/5/22.

Accession Number: 20220405-5206.

Comment Date: 5 p.m. ET 4/26/22.

Docket Numbers: ER22-1592-000.

Applicants: Starion Energy Inc.

Description: Notice of Cancellation of Market Based Rate Tariff of Starion Energy Inc.

Filed Date: 4/5/22.

Accession Number: 20220405-5207.

Comment Date: 5 p.m. ET 4/26/22.

Docket Numbers: ER22-1593-000.

Applicants: AEP Texas Inc.

Description: § 205(d) Rate Filing: AEPTX-Lunis Creek Solar Project 1st A&R Generation Interconnection Agreement to be effective 3/28/2022.

Filed Date: 4/7/22.

Accession Number: 20220407-5022.

Comment Date: 5 p.m. ET 4/28/22.

Docket Numbers: ER22-1594-000.

Applicants: AEP Texas Inc.

Description: § 205(d) Rate Filing: AEPTX-Rayos Del Sol (Vancourt) 2nd A&R Generation Interconnection Agreement to be effective 3/28/2022.

Filed Date: 4/7/22.

Accession Number: 20220407-5028.

Comment Date: 5 p.m. ET 4/28/22.

Docket Numbers: ER22-1595-000.

Applicants: GenOn Florida, LP.

Description: Tariff Amendment: Notice of Cancellation to be effective4/8/2022.

Filed Date: 4/7/22.

Accession Number: 20220407-5031.

Comment Date: 5 p.m. ET 4/28/22.

Docket Numbers: ER22-1596-000.

Applicants: Koch Energy Services, LLC.

Description: Tariff Amendment: Notice of Cancellation of MBR Tariff to be effective 6/7/2022.

Filed Date: 4/7/22.

Accession Number: 20220407-5090.

Comment Date: 5 p.m. ET 4/28/22.

Docket Numbers: ER22-1597-000.

Applicants: PJM Interconnection, L.L.C.

Description: § 205(d) Rate Filing: Original WMPA, Service Agreement No. 6395; Queue No. AG1-251 to be effective 3/8/2022.

Filed Date: 4/7/22.

Accession Number: 20220407-5095.

Comment Date: 5 p.m. ET 4/28/22.

Docket Numbers: ER22-1598-000.

Applicants: Constellation Generation Supply, LLC.

Description: Tariff Amendment: Notice of Cancellation to be effective4/8/2022.

Filed Date: 4/7/22.

Accession Number: 20220407-5104.

Comment Date: 5 p.m. ET 4/28/22.

Docket Numbers: ER22-1599-000.

Applicants: AEP Texas Inc.

Description: § 205(d) Rate Filing: AEPTX-ETT (Salvare) Facilities Development Agreement to be effective 12/31/9998.

Filed Date: 4/7/22.

Accession Number: 20220407-5120.

Comment Date: 5 p.m. ET 4/28/22.

Docket Numbers: ER22-1600-000.

Applicants: Florida Power & Light Company.

Description: § 205(d) Rate Filing: FPL and City of Blountstown NITSA & NOA to be effective 5/1/2022.

Filed Date: 4/7/22.

Accession Number: 20220407-5123.

Comment Date: 5 p.m. ET 4/28/22.

Docket Numbers: ER22-1601-000.

Applicants: PacifiCorp.

Description: § 205(d) Rate Filing: OATT Revised Attachment H-1 (Additional Update Form 1 Source References 2022) to be effective4/8/2022.

Filed Date: 4/7/22.

Accession Number: 20220407-5164.

Comment Date: 5 p.m. ET 4/28/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 7, 2022.
Debbie-Anne A. Reese,
Deputy Secretary.

[FR Doc. 2022-07875 Filed 4-12-22; 8:45 am]

BILLING CODE 6717-01-P